DEPARTMENT OF LABOR

Employment and Training Administration

[TA-W-56,187]

AT&T Call Center; Charleston, West Virginia; Notice of Termination of Investigation

Pursuant to section 221 of the Trade Act of 1974, as amended, an investigation was initiated on December 8, 2004 in response to a petition filed a petition filed by the Communications Workers of America on behalf of workers of AT&T Call Center, Charleston, West Virginia.

This petition is a copy of petition number TA-W-56,094. Since this petition (TA-W-56,187) was initiated in error, further investigation in this case would serve no purpose and the petition has been terminated.

Signed at Washington, DC, this 20th day of December 2004.
Linda G. Poole,
Certifying Officer, Division of Trade Adjustment Assistance.

[FR Doc. E5-267 Filed 1-25-05; 8:45 am]

BILLING CODE 4510-30-P